ENVIRONMENTAL PROTECTION AGENCY

[FRL-6703-9]

Science Advisory Board; Notification of Public Advisory Committee Meeting; Meeting Date Correction

Incorrect meeting dates were announced for one of the two Science Advisory Board Executive Committee (EC) meetings at 65 FR 30589-30591, dated May 12, 2000. The meeting was originally announced for Monday, June 12, 2000. The meeting should have been announced for Friday, June 16, 2000. There are no changes to the other EC meeting (scheduled for May 30, 2000) or the Drinking Water Committee meeting (scheduled for June 5-7, 2000) announced in that FR.

The correct meeting announcement information is below.

The Executive Committee (EC) of US EPA's Science Advisory Board will conduct a public teleconference meeting on Friday, June 16, 2000. Additional instructions about how to participate in the conference call can be obtained by calling Ms. Priscilla Tillery-Gadson no earlier than one week prior to the meeting (beginning June 9) at (202) 564-4533, or via e-mail at tillery.priscilla@epa.gov.

Availability of Review Materials—Drafts of the reports that will be reviewed at the meeting should be available to the public at the SAB website (http://www.epa.gov/sab) by close-of-business on June 1, 2000.

Dated: May 16, 2000.
Donald G. Barnes,
Staff Director, Science Advisory Board.

[FR Doc. 00-12793 Filed 5-22-00; 8:45 am]

BILLING CODE 6560-50-P